ENVIRONMENTAL PROTECTION AGENCY

[FRL-8171-6]

Proposed CERCLA Administrative Cost Recovery Settlement: Dayton X-Ray Company Superfund Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative Agreement for Recovery of Past Response Costs (“Agreement”), issued pursuant to section 122(h)(1) of CERCLA, concerning the Dayton X-Ray Site in Dayton, Ohio, between the United States Environmental Protection Agency (“U.S. EPA” or “the Agency”) and the following Settling Party: Joan Ruth Sammons.

The proposed Agreement contains a settlement between U.S. EPA and Joan Ruth Sammons for the payment of a portion of U.S. EPA's costs incurred in connection with the Dayton X-Ray Superfund Site. The Agreement requires the Settling Party to pay a total of $20,955.62 plus interest in the amount of $178.90 into the U.S. EPA Hazardous Substance Superfund. The Agreement also includes U.S. EPA's covenant not to sue the Settling Party pursuant to section 107(a) of CERCLA, 42 U.S.C. 9607(a), if Settling Party fulfills her obligations under the proposed Agreement.

For thirty (30) days following the date of publication of this notice, the Agency will receive written comments relating to the Agreement. The Agency will consider all comments received and may modify or withdraw its consent to the Agreement if comments received disclose facts or considerations which indicate that the Agreement is inappropriate, improper, or inadequate. The Agency's response to any comments received will be available for public inspection at the following location: Records Center, U.S. EPA, Region 5, 7th Floor, 77 W. Jackson Blvd., Chicago, IL 60604.

DATES: Comments must be submitted on or before June 19, 2006.

Background: The Dayton X-Ray Site is located at 1150 West Second Street, Dayton, Ohio. Dayton X-Ray Company operated from 1939 to 1992, as a family-owned business with its principal office and laboratory at this location. A title search revealed that Mrs. Joan Ruth Sammons owned the facility since 1970. Mrs. Sammons is the sole remaining Potentially Responsible Party and is the Settling Respondent in this proposed Agreement.

The Dayton X-Ray Company filed for bankruptcy and ceased operations in 1992. The Site was abandoned with at least several dozen 55 gallon drums and containers, which contained hazardous substances, remaining on site. Approximately 20 of these drums were outside of a building near a sidwalk, and exposed to the elements, which would lead to deterioration of the drums and release of their hazardous contents. Mrs. Sammons performed the cleanup of hazardous substances from the Site pursuant to U.S. EPA Agreement Docket No. V-W-C-637, and has already paid U.S. EPA past costs in the amount of $12,000.

Under the terms of the proposed settlement, Mrs. Joan Sammons will pay the U.S. EPA Superfund $20,955.62 in U.S. EPA's costs in overseeing a clean-up of the Site by Mrs. Joan Sammons, plus interest in the amount of $178.90, for a total payment to the Superfund of $21,134.52. In consideration of the work performed, past costs already paid, and monies to be paid the Superfund pursuant to this proposed Agreement, U.S. EPA will forgive those Past Response Costs not collected pursuant to this Agreement. This settlement between U.S. EPA and Mrs. Sammons will resolve all outstanding costs of U.S. EPA incurred in connection with the Dayton X-Ray Site.

Comments should reference the Dayton X-Ray Company Superfund Site, Dayton, Ohio and U.S. EPA Docket No. V-W-060C-846, and should be addressed to: Jerome Kujawa, Associate Regional Counsel, 77 West Jackson Blvd., Mail Code C-14J, Chicago, Illinois 60604. Copies of the proposed Agreement may be obtained from Jerome Kujawa at (312) 886-6731 or e-mail at kujawa.jerome@epa.gov.

FOR FURTHER INFORMATION CONTACT: Jerome Kujawa, Associate Regional Counsel, 77 West Jackson Blvd., Mail Code C-14J, Chicago, Illinois 60604, (312) 886-6731 or e-mail Mr. Kujawa at kujawa.jerome@epa.gov.

Dated: May 4, 2006.
Eric J. Cohen,
Acting Regional Counsel.

[FR Doc. E6-7575 Filed 5-17-06; 8:45 am]

BILLING CODE 6560-50-P